DEPARTMENT OF LABOR

Employment and Training Administration

[TA-W-72,194]

Pendleton Woolen Mills, Inc., Washougal, WA; Notice of Negative Determination Regarding Application for Reconsideration

By application dated May 4, 2010, a petitioner requested administrative reconsideration of the Department's certification regarding eligibility to apply for Trade Adjustment Assistance (TAA), applicable to workers and former workers of the subject firm. The certification was signed on April 1, 2010, and published in the Federal Register on May 5, 2010 (75 FR 24751).

Pursuant to 29 CFR 90.18(c), reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

In the request for reconsideration, the petitioner asserted that she and other workers of the subject firm who were laid off more than a year before the date of the petition (August 24, 2009), and were thus not reached by the impact date of the certification (August 24, 2008), should be included in the certification because of their long-term service to the employer, of their long years of working together with other employees who will be covered by the decision, and they should not be penalized for the alleged delay by the petitioner (a union official) who filed the petition in this case.

The applicable regulation, 29 CFR 90.16(e), states that:

A certification of eligibility to apply for adjustment assistance shall not apply to any worker:

(1) Whose last total or partial separation from the firm or appropriate subdivision occurred more than one (1) year before the date of the petition; * * *

In this case, the petition that began this investigation was dated August 24, 2009. Therefore, according to the regulation above, no worker who was separated earlier than August 24, 2008 (i.e., one year prior to the August 24, 2009 petition date) can be included in any certification resulting from the investigation resulting from the petition at issue.

The petitioner in this case was laid off on August 5, 2008, nineteen days before the earliest possible date for workers to receive benefits under certification TA-W-72,194. Consequently, according to 29 CFR 90.16(e), she cannot be covered by that certification.

The petitioner did not supply facts not previously considered or provide additional documentation indicating that there was either (1) a mistake in the determination of facts not previously considered or (2) a misinterpretation of facts or of the law justifying reconsideration of the initial determination.

After careful review of the request for reconsideration, the Department determines that 29 CFR 90.18(c) has not been met.

Conclusion

After review of the application and investigative findings, I conclude that there has been no error or misinterpretation of the law or of the facts which would justify reconsideration of the Department of Labor's prior decision. Accordingly, the application is denied.

Signed in Washington, DC, this 14th day of July 2010.
Del Min Amy Chen,
Certifying Officer, Division of Trade Adjustment Assistance.

[FR Doc. 2010-18187 Filed 7-23-10; 8:45 am]

BILLING CODE 4510-FN-P